DEPARTMENT OF TRANSPORTATION

Pipeline and Hazardous Materials Safety Administration

[Docket No. PHMSA-2024-0117; Notice No. 2024-11]

Hazardous Materials: Notice of Public Meeting on the Transportation of Hazardous Materials by Unmanned Aircraft Systems

AGENCY: Pipeline and Hazardous Materials Safety Administration (PHMSA), Office of Hazardous Materials Safety, and the Federal Aviation Administration (FAA), Security and Hazardous Materials Safety, Department of Transportation (DOT).

ACTION: Notice of public meeting.

SUMMARY: This notice announces that PHMSA and FAA will host a public meeting to solicit input on implementing provisions in the FAA Reauthorization Act of 2024. This section relates to the transportation of hazardous materials by unmanned aircraft systems (UAS).

DATES: This meeting will take place on August 22, 2024, from 1 p.m. to 4 p.m., Eastern Time.

ADDRESSES: The public meeting will be a web conference. Specific information for this meeting will be posted on the PHMSA website under “Upcoming Events” at https://www.phmsa.dot.gov/standards-rulemaking/hazmat/hazardous-materials-standards-and-rulemaking-overview. This information will include the public meeting date, time, conference dial-in number, and details for registration. You must register to attend the meeting, please register here: https://events.gcc.teams.microsoft.com/event/64a51604-bd84-4423-aae9-27e3955cd18c@c4cd245b-44f0-4395-a1aa-3848d258f78b.

FOR FURTHER INFORMATION CONTACT:

Steven Andrews, 202-366-8553, Standards and Rulemaking Division, Pipeline and Hazardous Materials Safety Administration, U.S. Department of Transportation, 1200 New Jersey Avenue SE, Washington, DC 20590-0001 or

Lori Ambers, 405-954-0088, Office of Hazardous Materials Safety, Federal Aviation Administration, U.S. Department of Transportation, 800 Independence Avenue SW, Washington, DC 20591-0001.

SUPPLEMENTARY INFORMATION:

I. Background

On May 16, 2024, President Biden signed the Federal Aviation Administration (FAA) Reauthorization Act of 2024 ¹ into law. Section 933 of the FAA Reauthorization Act of 2024, titled “Special Authority for Transport of Hazardous Materials by Commercial Package Delivery Unmanned Aircraft Systems” directs the Secretary of Transportation to use a risk-based approach to establish the operational requirements, standards, or special permits necessary to approve or authorize an air carrier to transport hazardous materials by UAS providing common carriage under 14 Code of Federal Regulations (CFR) part 135, or under successor authorities, as applicable, based on the weight, amount, and type of hazardous material being transported and the characteristics of the operations subject to such requirements, standards, or special purposes (see § 933, subsection (a)). Section 933, subsection (e)(1) requires the Secretary to hold a public meeting within 180 days of the enactment of the FAA Reauthorization Act of 2024 to obtain input on the changes necessary to implement § 933.

¹ https://www.congress.gov/bill/118th-congress/house-bill/3935/text.

This joint public meeting, hosted by PHMSA and the FAA, addresses the statutory requirement in § 933, subsection (e)(1) of the FAA Reauthorization Act. PHMSA and the FAA encourage participation in this public meeting from stakeholders and the public to help advance the development of policy for UAS delivery of packages containing hazardous materials.

II. Agenda

At this meeting, PHMSA and the FAA will provide a brief background discussion on § 933 of the FAA Reauthorization Act of 2024. Following this introduction, PHMSA and the FAA will solicit input from the public on actions necessary to implement § 933.

III. Public Participation

The meeting will be open to the public; however, any member of the public who wishes to attend must RSVP to obtain login instructions and access using the following: https://events.gcc.teams.microsoft.com/event/64a51604-bd84-4423-aae9-27e3955cd18c@c4cd245b-44f0-4395-a1aa-3848d258f78b. If you plan to present or provide input at this meeting, please file a written copy of your remarks and provide a copy of any visual aids to Mr. Steven Andrews (steven.andrews@dot.gov) and Ms. Lori Ambers (laura.l.ambers@faa.gov) by August 19, 2024.

PHMSA is committed to providing equal access for all citizens and ensuring that information is available in appropriate alternative formats to meet the requirements of persons who have a disability. If you require an alternative version of files provided or alternative accommodations, please contact PHMSA-Accessibility@dot.gov by August 15, 2024.

Signed in Washington, DC, on July 31, 2024.
William S. Schoonover,
Associate Administrator for Hazardous Materials Safety, Pipeline and Hazardous Materials Safety Administration.

[FR Doc. 2024-17291 Filed 8-7-24; 8:45 am]

BILLING CODE 4910-60-P